DEPARTMENT OF ENERGY

National Nuclear Security Administration; Stewardship Science Academic Alliances Program

AGENCY: National Nuclear Security Administration (NNSA), U. S. Department of Energy (DOE).

ACTION: Notice of intent to solicit applications.

SUMMARY: In continuation of the Inertial Fusion Science in Support of Stockpile Stewardship Grant Program, the DOE announces that it plans to expand this university program and conduct a competitive solicitation for research projects in additional areas of fundamental science relevant to the NNSA stockpile stewardship program. The stockpile stewardship program is based on a leading-edge scientific approach to meeting the challenges of ensuring the safety, reliability, and performance of the nuclear weapon stockpile in the absence of testing. The Stewardship Science Academic Alliances Program is sponsored by the Office of Research, Development and Simulation, in the DOE/NNSA Office of Defense Programs (DP). When issued, Solicitation No. DE-PS03-01SF22349 will invite universities and academic institutions to submit cooperative agreement or research grant applications. The total amount of funding expected to be available for the Fiscal Year 2002 (FY02) program cycle is approximately $10,000,000. Multiple awards are anticipated.

ADDRESSES: The formal solicitation document will be disseminated electronically as Solicitation Number DE-PS03-01SF22349, Stewardship Science Academic Alliances Program, through the Industry Interactive Procurement System (IIPS) located at the following URL: http://e-center.doe.gov. IIPS provides the medium for disseminating solicitations, receiving financial assistance applications and evaluating the applications in a paperless environment. Completed applications are required to be submitted via IIPS. Individuals who have the authority to enter their University or Academic Institution into a financial assistance award and intend to submit proposals/applications via the IIPS system must register and receive confirmation that they are registered prior to being able to submit an application on the IIPSsystem. An IIPS “User Guide for Contractor” can be obtained by going to the IIPS Homepage at the following URL: http://e-center.doe.gov and then clicking on the “Help” button. Questions regarding the operation of IIPS may be e-mailed to the IIPS Help Desk at IIPS HelpDesk@e-center.doe.gov or call the help desk at (800) 683-0751.

FOR FURTHER INFORMATION CONTACT: Bertha Crisp, Contract Specialist, bertha.crisp@oak.doe.gov.

SUPPLEMENTARY INFORMATION: The solicitation document will contain all the information relative to this action for prospective applicants. The solicitation is targeted for release in late September 2001. Pre-applications and applications will be subject to scientific peer review against predetermined, published criteria. Consideration will be given to a broad spectrum of proposed university programs, ranging from single-investigator projects to comprehensive Centers of Excellence. Final selection of successful applications will be made by the DOE/NNSA. It is anticipated that multiple Cooperative Agreements and Research Grants will be awarded within the available funding. The stockpile stewardship mission focuses on both an increased fundamental understanding of basic physical phenomena associated with stockpile performance, safety, and reliability, as well as on sustaining a comprehensive set of core science and technology competencies in the NNSA/DP complex. Under the Stewardship Science Academic Alliances Program, the NNSA will consider applications for university-based research in fields of physical sciences that are relevant to stockpile stewardship and which fall within the areas of research supported by the NNSA/DP Office of Research, Development and Simulation. An objective of the Stewardship Science Academic Alliances Program is to complement the current NNSA/DP Accelerated Strategic Computing Initiative (ASCI) Academic Strategic Alliances Program (ASAP) by emphasizing primarily experimental research in the following physical sciences areas:

A.—Properties of Materials under Extreme Conditions and Hydrodynamics: This research area includes the static and dynamic (i.e., shock-compressed) properties of materials under conditions of high-pressure, high-temperature (1-10 eV regime), high-strain and high-strain-rate, and hydrodynamic experiments in low-energy-density physics regimes where materials properties (strength, etc.) dominate.

B.—High-Energy-Density Physics and Fluid Dynamics: This research area includes plasma physics, properties of materials under high-energy-density conditions, inertial fusion, atomic physics, radiation generation, the interaction of radiation with matter, and the physics of turbulence and fluid interfaces.

C.—Low-Energy Nuclear Science: This research area includes experimental and theoretical investigations leading to greater accuracy in the knowledge of cross sections of stable and unstable nuclei and corresponding reaction rates for neutron-, γ- and ion-induced reactions of relevance to the stockpile for both simulation and radiochemistry diagnosis.

Additional topics of interest may be added pending clarification of funding for FY02. All work funded through this program will be unclassified.

Issued in Oakland, CA, on August 21, 2001.
Ernest Rios,
Director, Financial Assistance Center, Oakland Operations Office.

[FR Doc. 01-21666 Filed 8-27-01; 8:45 am]

BILLING CODE 6450-01-P